DEPARTMENT OF THE INTERIOR

Bureau of Land Management

[MT-926-01-9820-HEMT02]

Montana: Filing of Plat of Survey

AGENCY: Bureau of Land Management, Montana State Office, Interior.

ACTION: Notice.

SUMMARY: The plat of the following described land is scheduled to be officially filed in the Montana State Office, Billings, Montana, thirty (30) days from the date of this publication.

T. 5 S., R. 9 E., BHM, SD

The plat, in 4 sheets, represents the dependent resurvey of a portion of the west boundary of the Pine Ridge Indian Reservation, a portion of the east boundary and subdivisional lines, and the adjusted original meanders of the left and right banks of the South Fork of the Cheyenne River through sections 13, 14, 22, 23, and 24, and the subdivision of sections 13, 14, 22, 23, and 24, and the survey of the last thread of the abandoned channel of the South Fork of the Cheyenne River in section 22, the division of accretion lines in sections 13 and 22, and the new meanders of a portion of the left and right banks of the South Fork of the Cheyenne River through sections 13, 14, 22, 23, 24, and 27, Township 5 South, Range 9 East, Black Hills Meridian, South Dakota, was officially accepted March 1, 2001.

The survey was requested by the U.S. Forest Service, Nebraska National Forest, and was necessary to identify lands administered by the U.S. Forest Service.

A copy of the preceding described plat will be immediately placed in the open files and will be available to the public as a matter of information.

If a protest against this survey, as shown on this plat, is received prior to the date of the official filings, the filings will be stayed pending consideration of the protests.

This particular plat will not be officially filed until the day after all protests have been accepted or dismissed and become final or appeals from the dismissal affirmed.

FOR FURTHER INFORMATION CONTACT: Bureau of Land Management, 5001 Southgate Drive, P.O. Box 36800, Billings, Montana 59107-6800.

Dated: March 14, 2001.
Steven G. Schey,
Chief Cadastral Surveyor, Division of Resources.

[FR Doc. 01-7809 Filed 3-28-01; 8:45 am]

BILLING CODE 4310-DN-M